DEPARTMENT OF COMMERCE

National Oceanic and Atmospheric Administration

[I.D. 120400C]

Availability of a Draft Environmental Assessment/Finding of No Significant Impact and Receipt of an Application for an Incidental Take Permit (1272)

AGENCY: National Marine Fisheries Service (NMFS), National Oceanic and Atmospheric Administration, Commerce.

ACTION: Notice of availability.

SUMMARY: NMFS received an application for an incidental take permit (Permit) from the Oregon Department of Fish and Wildlife (ODFW) and the Washington Department of Fish and Wildlife (WDFW) pursuant to the Endangered Species Act of 1973, as amended (ESA). As required by the ESA, ODFW and WDFW have also prepared a conservation plan (Plan) designed to minimize and mitigate any such take of endangered or threatened species. The Permit application is for the incidental take of ESA-listed adult and juvenile salmonids associated with otherwise lawful sport and commercial fisheries on non-listed species in the lower and middle Columbia River and its tributaries in the Pacific Northwest. The duration of the proposed Permit and Plan is 1 year. The Permit application includes the proposed Plan submitted by ODFW and WDFW. NMFS also announces the availability of a draft Environmental Assessment (EA) for the Permit application. NMFS is furnishing this notice in order to allow other agencies and the public an opportunity to review and comment on these documents. All comments received will become part of the public record and will be available for review.

DATES: Written comments from interested parties on the Permit application, Plan, and draft EA must be received at the appropriate address or fax number no later than 5 p.m. Pacific standard time on January 11, 2001.

ADDRESSES: Written comments on the application, Plan, or draft EA should be sent to Enrique Patiño, Sustainable Fisheries Division, F/NWR2, 7600 Sand point Way NE, Seattle, WA, 98115-0070. Comments may also be sent via fax to 206-526-6736. Comments will not be accepted if submitted via e-mail or the internet. Requests for copies of the Permit application, Plan, and draft EA should be directed to the Sustainable Fisheries Division (SFD), F/NWR2, 7600 Sand point Way NE, Seattle, WA, 98115-0070. Comments received will also be available for public inspection, by appointment, during normal business hours by calling 206-526-4655.

FOR FURTHER INFORMATION CONTACT: Enrique Patiño, Seattle, WA (ph: 206-526-4655, fax: 206-526-6736, e-mail: Enrique.Patino@noaa.gov).

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species incidental to, and not the purpose of, otherwise lawful activities. NMFS regulations governing permits for threatened and endangered species are promulgated at 50 CFR 222.307.

Species Covered in This Notice

The following species and evolutionarily significant units (ESU's) are included in the Plan and Permit application:

Fish

Chinook salmon (Oncorhynchus tshawytscha): threatened Snake River (SnR) spring, threatened(SnR) summer, endangered Upper Columbia river spring (UCR), threatened Upper Willamette River spring (UWR) (LCR), threatened lower Columbia River spring (LCR).

Steelhead (O. mykiss): threatened SnR, endangered naturally produced and artificially propagated UCR, threatened middle Columbia River (MCR), threatened LCR, threatened Upper Willamette River (UWR).

Sockeye Salmon (Oncorhynchus nerka): endangered SnR.

To date, protective regulations for threatened LCR chinook salmon under section 4(d) of the ESA have not been promulgated by NMFS. This notice of receipt of an application requesting takes of this species is issued as a precaution in the event that NMFS issues protective regulations that prohibit takes of threatened LCR chinook salmon. The initiation of a 30-day public comment period on the application, including its proposed takes of threatened LCR chinook salmon does not presuppose the contents of the eventual protective regulations.

Background

Winter/spring/summer (w/s/s) season fisheries in the Columbia River have been managed since 1996 under provisions of the 1996-1998 Management Agreement for Upper Columbia River Spring Chinook, Summer Chinook and Sockeye. The Management Agreement modified provisions of the Columbia River Fish Management Plan (CRFMP) to include additional provisions for newly listed species. The CRFMP, and thus the associated Management Agreement, expired by their own terms on December 31, 1998, but were extended by agreement of the parties and court order through July 31, 1999. Since NMFS was a signatory party to the CRFMP, and approval of the CRFMP was a Federal action subject to ESA section 7 consultation, incidental take associated with the ODFW and WDFW fisheries was authorized in biological opinions issued on the CRFMP. NMFS has advised the states that, with the expiration of the CRFMP, and absent any subsequent agreement among the parties to U.S.v.Oregon, there is no longer a Federal action that provides a nexus for ESA section 7 consultation. Because the immediate prospects for reaching an agreement remain uncertain, ODFW and WDFW have applied for a 1-year ESA section 10(a)(1)(B) permit for incidental takes of ESA-listed adult and juvenile salmonids associated with sport and commercial fisheries during the w/s/s season 2001 on non-listed species in the lower and middle Columbia River and its tributaries in the Pacific Northwest.

Conservation Plan

The Conservation Plan prepared by ODFW and WDFW describes measures designed to monitor, minimize, and mitigate the incidental takes of ESA-listed anadromous salmonids associated with some or all of the following fisheries which are expected to occur from January 1 through July 31, 2001, with approximate dates as specified:

Winter commercial sturgeon fishery: January and February 2001.

Winter commercial salmon fishery: February through April 2001.

Spring chinook commercial fishery - Select Areas: April through June 2001.

Smelt commercial fishery/test fishery: December 1 through March 31, 2001.

Anchovy and herring commercial bait fishery: Year round.

Shad commercial fishery - Area 2S: Mid-May through early August 2001.

Shad commercial fishery - Washougal Reef: May and June 2001.

Sockeye commercial fishery: June and July 2001.

Spring chinook sport fishery - mainstem Columbia River: January 1 through March 31, 2001.

Spring chinook sport fishery - Select Areas: Year round.

Steelhead/trout sport fishery - mainstem Columbia River: May 16 to October 31 below the I-5 Bridge and from June 16 to December 31 above the I-5 Bridge up to the Highway 395 Bridge at Pasco, Washington

Spring chinook/steelhead sport fishery - Ringold: January 1 through March 31, 2001.

Smelt recreational fishery

Shad recreational fishery: Late May and early July 2001.

Sockeye recreational fishery: June and July 2001.

Sturgeon recreational fishery: March through July 2001.

Warmwater recreational fishery: Year round

Spring chinook test fishery - Corbett: April 2001.

Sturgeon tagging stock assessment project: May through July 2001.

Spring chinook Indian subsistence fishery - Wanapum Tribe: May through July 2001.

ESA-listed fish incidental mortalities associated with the ODFW and WDFW fishery programs are requested at levels specified in the Permit application. ODFW/WDFW are proposing to limit state in-river fisheries such that the incidental impacts on ESA-listed salmonids will be minimized. Seven alternatives for the ODFW and WDFW fisheries were provided in the Plan, including: (1) historic baseline; (2) Columbia River Fish Management Plan; (3) Willamette subbasin Plan; (4) Willamette spring Chinook fishery Management and evaluation Plan; (5) 1996-99 Management agreement Limits;(6) 1996-99 Actual Harvest Rates; and (7) No action.

Environmental Assessment/Finding of No Significant Impact

The EA package includes a draft EA and a draft Finding of No Significant Impact (FONSI) which concludes that issuing the incidental take permit is not a major Federal action significantly affecting the quality of the human environment, within the meaning of section 102(2)(C) of the National Environmental Policy Act (NEPA) of 1969, as amended. Two Federal action alternatives have been analyzed in the EA, including: (1) the no action alternative; and (2) issue a permit with conditions.

This notice is provided pursuant to section 10 of the ESA and the NEPA regulations (40 CFR 1506.6). NMFS will evaluate the application, associated documents, and comments submitted thereon to determine whether the application meets the requirements of the NEPA regulations and section 10(a) of the ESA. If it is determined that the requirements are met, a permit will be issued for incidental takes of ESA-listed anadromous salmonids under the jurisdiction of NMFS. The final NEPA and permit determinations will not be completed until after the end of the 30-day comment period and will fully consider all public comments received during the comment period. NMFS will publish a record of its final action in the Federal Register.

Dated: December 7, 2000.
Wanda L. Cain,
Chief, Endangered Species Division, Office of Protected Resources, National Marine Fisheries Service.

[FR Doc. 00-31650 Filed 12-11-00; 8:45 am]

BILLING CODE: 3510-22 -S